DEPARTMENT OF JUSTICE

Federal Bureau of Investigation

[OMB Number 1110-NEW]

Agency Information Collection Activities: Proposed Collection, Comments Requested: Notice of Collection of Information Relative to Customer Service Satisfaction

ACTION: 30-day Notice.

The Department of Justice, Federal Bureau of Investigation (FBI), National Center for the Analysis of Violent Crime (NCAVC), will be submitting the following information collection request to the Office of Management and Budget (OMB) for review and clearance in accordance with established review procedures of the Paperwork Reduction Act of 1995. The proposed information collection is published to obtain comments from the public and affected agencies. This proposed information collection was previously published in the Federal Register Volume 78, Number 72, page 22332, on April 15, 2013, allowing for a 60 day comment period.

The purpose of this notice is to allow for an additional 30 days for public comment until July 31, 2013. This process is conducted in accordance with 5 CFR 1320.10.

ADDRESSES: All comments, suggestions, or questions regarding additional information, to include obtaining a copy of the proposed information collection instrument with instructions, should be directed to Yvonne Muirhead, Federal Bureau of Investigation, NCAVC, Critical Incident Response Group, FBI Academy, 1 Range Road, Quantico, Virginia, 22135.

SUPPLEMENTARY INFORMATION: Written comments and suggestions from the public and affected agencies concerning the proposed collection of information are encouraged. Comments should address one or more of the following four points:

(1) Whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques of other forms of information technology, e.g., permitting electronic submission of responses.

Overview of this information collection:

(1) Type of information collection: Customer satisfaction ratings regarding the quality and value of the FBI's NCAVC services.

(2) The title of the form/collection: FBI-NCAVC Satisfaction Survey.

(3) There is no agency form number applicable to this survey.

(4) The survey will be distributed to state, local and tribal law enforcement agencies to which the NCAVC has provided investigative assistance. The survey is being proposed as a means to assess the effectiveness and efficiency with which the NCAVC serves these agencies in the execution of their missions. The survey will query respondents as to the agencies' satisfaction with NCAVC services, and concrete achievements which were furthered via NCAVC services.

(5) Time burden anticipated with this collection: It is estimated that 100 respondents per calendar year will be contacted to complete a survey consisting of 11 questions. An approximate non-response rate of 50% is anticipated. It is estimated that a burden of approximately three to five minutes, or .05 to .08 hours, will be cast upon each respondent to complete the survey, with a total estimate of five to 8.3 hours in a calendar year for all respondents combined, if all respondents complete a survey. If the expected non-response rate of 50% holds true, then the combined burden estimate drops to approximately 2.5 to 4.2 hours per calendar year. The NCAVC estimates little to no variability within this time estimate based upon on individualized data retrieval systems, availability of requested data, and other variables, because this survey is intended to assess customer satisfaction rather than generate empirical data.

(6) Methodology: The survey will be distributed and collected electronically, via electronic mail communication.

Contact: If additional information is required contact: Jerri Murray, Department Clearance Officer, Policy and Planning Staff, Justice Management Division, United States Department of Justice, Two Constitution Square, 145 N Street NE., Room 1407B, Washington, DC 20530.

Dated: June 25, 2013.
Jerri Murray,
Department Clearance Officer for PRA, United States Department of Justice.

[FR Doc. 2013-15566 Filed 6-28-13; 8:45 am]

BILLING CODE 4410-02-P